DEPARTMENT OF TRANSPORTATION

National Highway Traffic Safety Administration

49 CFR Part 541

[Docket No. NHTSA-2012-0072]

Final Theft Data; Motor Vehicle Theft Prevention Standard

AGENCY: National Highway Traffic Safety Administration (NHTSA), Department of Transportation.

ACTION: Publication of 2010 final theft data.

SUMMARY: This document publishes the final data on thefts of model year (MY) 2010 passenger motor vehicles that occurred in calendar year (CY) 2010. The final 2010 theft data indicated a decrease in the vehicle theft rate experienced in CY/MY 2010. The final theft rate for MY 2010 passenger vehicles stolen in calendar year 2010 is 1.17 thefts per thousand vehicles, a decrease of 12.03 percent from the rate of 1.33 thefts per thousand in 2009. Publication of these data fulfills NHTSA's statutory obligation to periodically obtain accurate and timely theft data and publish the information for review and comment.

DATES: Effective date: September 21, 2012.

FOR FURTHER INFORMATION CONTACT: Ms. Deborah Mazyck, Office of International Policy, Fuel Economy and Consumer Programs, NHTSA, 1200 New Jersey Avenue SE., Washington, DC 20590. Ms. Mazyck's telephone number is (202) 366-4139. Her fax number is (202) 493-2990.

SUPPLEMENTARY INFORMATION: NHTSA administers a program for reducing motor vehicle theft. The central feature of this program is the Federal Motor Vehicle Theft Prevention Standard, 49 CFR part 541. The standard specifies performance requirements for inscribing and affixing vehicle identification numbers (VINs) onto certain major original equipment and replacement parts of high-theft lines of passenger motor vehicles.

The agency is required by 49 U.S.C. 33104(b)(4) to periodically obtain, from the most reliable source, accurate and timely theft data and publish the data for review and comment. To fulfill this statutory mandate, NHTSA has published theft data annually beginning with MYs 1983/84. Continuing to fulfill the § 33104(b)(4) mandate, this document reports the final theft data for CY 2010, the most recent calendar year for which data are available.

In calculating the 2010 theft rates, NHTSA followed the same procedures it used in calculating the MY 2009 theft rates. (For 2009 theft data calculations, see 76 FR 65610, October 24, 2011). As in all previous reports, NHTSA's data were based on information provided to NHTSA by the National Crime Information Center (NCIC) of the Federal Bureau of Investigation. The NCIC is a government system that receives vehicle theft information from nearly 23,000 criminal justice agencies and other law enforcement authorities throughout the United States. The NCIC data also include reported thefts of self-insured and uninsured vehicles, not all of which are reported to other data sources.

The 2010 theft rate for each vehicle line was calculated by dividing the number of reported thefts of MY 2010 vehicles of that line stolen during calendar year 2010 by the total number of vehicles in that line manufactured for MY 2010, as reported to the Environmental Protection Agency (EPA).

The final 2010 theft data show a decrease in the vehicle theft rate when compared to the theft rate experienced in CY/MY 2009. The final theft rate for MY 2010 passenger vehicles stolen in calendar year 2010 decreased to 1.17 thefts per thousand vehicles produced, a decrease of 12.03 percent from the rate of 1.33 thefts per thousand vehicles experienced by MY 2009 vehicles in CY 2009. A similar decreasing trend in vehicle thefts was reported in the Federal Bureau of Investigation's (FBI) 2010 Uniform Crime Report showing a 7.4% reduction in motor vehicle thefts (automobiles, trucks, buses and other vehicles) from 2009 to 2010.

For MY 2010 vehicles, out of a total of 225 vehicle lines, three lines had a theft rate higher than 3.5826 per thousand vehicles, the established median theft rate for MYs 1990/1991. (See 59 FR 12400, March 16, 1994). Of the three vehicle lines with a theft rate higher than 3.5826, three are passenger car lines, none are multipurpose passenger vehicle lines, and none are light-duty truck lines.

NHTSA's data show that the MY 2010 theft rate reduction is consistent with the general decreasing trend of theft rates over the past 17 years as indicated by Figure 1. The agency believes that the theft rate reduction is the result of several factors including the increased use of standard antitheft devices (i.e., immobilizers) and vehicle parts marking as well as the effectiveness of combined measures used by Federal agencies, law enforcement, vehicle manufacturers and the insurance industry to help combat vehicle theft.

On Tuesday, June 26, 2012, NHTSA published the preliminary theft rates for CY 2010 passenger motor vehicles in the Federal Register (77 FR 38025). The agency tentatively ranked each of the MY 2010 vehicle lines in descending order of theft rate. The public was requested to comment on the accuracy of the data and to provide final production figures for individual vehicle lines. The agency did not receive any comments from the public to make adjustments to its data. As a result, the final theft rates and rankings of vehicle lines did not change from those published in the June 2012 notice.

The following list represents NHTSA's final calculation of theft rates for all 2010 passenger motor vehicle lines. This list is intended to inform the public of calendar year 2010 motor vehicle thefts of model year 2010 vehicles and does not have any effect on the obligations of regulated parties under 49 U.S.C. chapter 331, Theft Prevention.

Final Report of Theft Rates for Model Year 2010 Passenger Motor Vehicles Stolen in Calendar Year 2010
| Manufacturer | Make/model (line) | Thefts 2010 | Production (Mfr's) 2010 | 2010 Theft rate (per 1,000 vehicles produced)
1 | CHRYSLER | DODGE CHARGER | 532 | 88,032 | 6.0433
2 | GENERAL MOTORS | PONTIAC G6 | 111 | 25,586 | 4.3383
3 | GENERAL MOTORS | CHEVROLET IMPALA | 579 | 150,391 | 3.8500
4 | CHRYSLER | 300 | 185 | 52,261 | 3.5399
5 | NISSAN | INFINITI FX35 | 30 | 9,385 | 3.1966
6 | MITSUBISHI | GALANT | 38 | 12,053 | 3.1527
7 | CHRYSLER | SEBRING | 130 | 43,022 | 3.0217
8 | TOYOTA | LEXUS SC | 1 | 335 | 2.9851
9 | CHRYSLER | DODGE AVENGER | 197 | 67,604 | 2.9140
10 | KIA | RIO | 55 | 18,975 | 2.8986
11 | NISSAN | INFINITI M35/M45 | 12 | 4,287 | 2.7992
12 | GENERAL MOTORS | CHEVROLET HHR | 178 | 64,733 | 2.7498
13 | FORD MOTOR CO | LINCOLN TOWN CAR | 27 | 9,937 | 2.7171
14 | MERCEDES-BENZ | CL-CLASS | 3 | 1,124 | 2.6690
15 | BMW | 7 | 15 | 5,702 | 2.6307
16 | HYUNDAI | SONATA | 195 | 77,219 | 2.5253
17 | HYUNDAI | ACCENT | 139 | 55,245 | 2.5161
18 | KIA | OPTIMA | 60 | 25,135 | 2.3871
19 | GENERAL MOTORS | CADILLAC DTS | 36 | 15,744 | 2.2866
20 | FORD MOTOR CO | MUSTANG | 162 | 72,346 | 2.2392
21 | GENERAL MOTORS | CHEVROLET COBALT | 260 | 116,273 | 2.2361
22 | VOLVO | C70 | 5 | 2,238 | 2.2341
23 | CHRYSLER | DODGE CALIBER | 103 | 47,199 | 2.1822
24 | TOYOTA | CAMRY/SOLARA | 691 | 317,754 | 2.1746
25 | GENERAL MOTORS | CHEVROLET MALIBU | 381 | 183,777 | 2.0732
26 | GENERAL MOTORS | CHEVROLET AVEO | 65 | 31,692 | 2.0510
27 | NISSAN | VERSA | 162 | 79,164 | 2.0464
28 | CHRYSLER | DODGE CHALLENGER | 106 | 51,812 | 2.0459
29 | HONDA | PILOT | 42 | 22,528 | 1.8643
30 | BMW | 6 | 5 | 2,808 | 1.7806
31 | CHRYSLER | SEBRING CONVERTIBLE | 16 | 9,219 | 1.7355
32 | MITSUBISHI | ENDEAVOR | 8 | 4,674 | 1.7116
33 | VOLVO | S40 | 12 | 7,306 | 1.6425
34 | CHRYSLER | JEEP COMPASS | 30 | 18,549 | 1.6173
35 | GENERAL MOTORS | CHEVROLET CAMARO | 190 | 117,961 | 1.6107
36 | FORD MOTOR CO | FOCUS | 279 | 176,089 | 1.5844
37 | AUDI | AUDI S4/S5 | 11 | 7,068 | 1.5563
38 | NISSAN | PATHFINDER | 16 | 10,308 | 1.5522
39 | GENERAL MOTORS | CADILLAC CTS | 61 | 40,045 | 1.5233
40 | NISSAN | ALTIMA | 340 | 224,551 | 1.5141
41 | GENERAL MOTORS | PONTIAC VIBE | 21 | 14,075 | 1.4920
42 | FORD MOTOR CO | MERCURY GRAND MARQUIS | 41 | 27,956 | 1.4666
43 | SUZUKI | SX4 | 19 | 13,405 | 1.4174
44 | KIA | FORTE | 137 | 98,010 | 1.3978
45 | FORD MOTOR CO | TAURUS | 87 | 62,367 | 1.3950
46 | GENERAL MOTORS | SATURN VUE | 4 | 2,904 | 1.3774
47 | TOYOTA | 4RUNNER | 18 | 13,345 | 1.3488
48 | NISSAN | MAXIMA | 89 | 66,639 | 1.3356
49 | NISSAN | XTERRA | 31 | 23,420 | 1.3237
50 | MAZDA | 5 | 26 | 20,150 | 1.2903
51 | TOYOTA | COROLLA | 615 | 478,294 | 1.2858
52 | HYUNDAI | ELANTRA | 194 | 151,343 | 1.2819
53 | PORSCHE | PANAMERA | 7 | 5,531 | 1.2656
54 | NISSAN | SENTRA | 116 | 92,736 | 1.2509
55 | SUBARU | B9 TRIBECA | 3 | 2,412 | 1.2438
56 | FORD MOTOR CO | FUSION | 341 | 280,461 | 1.2159
57 | FORD MOTOR CO | MERCURY MILAN | 47 | 38,824 | 1.2106
58 | TOYOTA | YARIS | 74 | 63,285 | 1.1693
59 | MAZDA | 6 | 53 | 45,410 | 1.1671
60 | NISSAN | INFINITI G37 | 49 | 42,113 | 1.1635
61 | TOYOTA | SCION XB | 24 | 20,718 | 1.1584
62 | TOYOTA | MATRIX | 31 | 26,950 | 1.1503
63 | VOLKSWAGEN | JETTA/GLI | 142 | 123,543 | 1.1494
64 | VOLKSWAGEN | CC | 33 | 29,078 | 1.1349
65 | MERCEDES-BENZ | S-CLASS | 17 | 15,555 | 1.0929
66 | MERCEDES-BENZ | GLK-CLASS | 38 | 35,364 | 1.0745
67 | VOLKSWAGEN | NEW BEETLE | 18 | 16,829 | 1.0696
68 | TOYOTA | SCION TC | 21 | 19,786 | 1.0614
69 | HONDA | ACURA 3.5 RL | 3 | 2,859 | 1.0493
70 | KIA | SPORTAGE | 13 | 12,465 | 1.0429
71 | GENERAL MOTORS | CHEVROLET CORVETTE | 12 | 11,615 | 1.0331
72 | MAZDA | 3 | 164 | 158,778 | 1.0329
73 | MERCEDES-BENZ | C-CLASS | 58 | 56,579 | 1.0251
74 | MASERATI | GRANTURISMO | 1 | 989 | 1.0111
75 | GENERAL MOTORS | CADILLAC STS | 3 | 3,010 | 0.9967
76 | GENERAL MOTORS | BUICK LACROSSE/ALLURE | 55 | 55,836 | 0.9850
77 | FORD MOTOR CO | FLEX | 22 | 22,451 | 0.9799
78 | MERCEDES-BENZ | E-CLASS | 61 | 63,473 | 0.9610
79 | FORD MOTOR CO | LINCOLN MKS | 14 | 14,730 | 0.9504
80 | CHRYSLER | DODGE JOURNEY | 70 | 74,562 | 0.9388
81 | GENERAL MOTORS | BUICK LUCERNE | 19 | 20,529 | 0.9255
82 | JAGUAR LAND ROVER | XK/XKR | 2 | 2,198 | 0.9099
83 | CHRYSLER | JEEP LIBERTY | 44 | 48,487 | 0.9075
84 | KIA | SOUL | 68 | 75,847 | 0.8965
85 | BMW | 3 | 42 | 47,715 | 0.8802
86 | FORD MOTOR CO | EDGE | 105 | 119,546 | 0.8783
87 | CHRYSLER | DODGE NITRO | 17 | 19,432 | 0.8748
88 | AUDI | AUDI A3 | 4 | 4,587 | 0.8720
89 | HYUNDAI | GENESIS | 25 | 29,056 | 0.8604
90 | BMW | Z4/M | 1 | 1,165 | 0.8584
91 | JAGUAR LAND ROVER | XF | 7 | 8,206 | 0.8530
92 | HONDA | ACCORD CROSSTOUR | 29 | 34,114 | 0.8501
93 | HONDA | CIVIC | 217 | 259,907 | 0.8349
94 | AUDI | AUDI TT | 1 | 1,201 | 0.8326
95 | TOYOTA | FJ CRUISER | 16 | 19,395 | 0.8250
96 | FORD MOTOR CO | LINCOLN MKZ | 23 | 27,963 | 0.8225
97 | SUBARU | IMPREZA | 31 | 38,000 | 0.8158
98 | TOYOTA | LEXUS LS | 11 | 13,636 | 0.8067
99 | BENTLEY MOTORS | CONTINENTAL | 1 | 1,249 | 0.8006
100 | TOYOTA | SIENNA VAN | 43 | 54,895 | 0.7833
101 | NISSAN | CUBE | 15 | 19,411 | 0.7728
102 | HONDA | ACURA ZDX | 3 | 3,994 | 0.7511
103 | FORD MOTOR CO | ESCAPE | 146 | 200,970 | 0.7265
104 | GENERAL MOTORS | GMC CANYON PICKUP | 6 | 8,394 | 0.7148
105 | NISSAN | GT-R | 1 | 1,420 | 0.7042
106 | HONDA | ACCORD | 198 | 281,286 | 0.7039
107 | HYUNDAI | SANTA FE | 39 | 55,423 | 0.7037
108 | MITSUBISHI | LANCER | 21 | 29,952 | 0.7011
109 | KIA | SEDONA VAN | 11 | 15,716 | 0.6999
110 | TOYOTA | TACOMA PICKUP | 77 | 111,599 | 0.6900
111 | TOYOTA | HIGHLANDER | 58 | 84,152 | 0.6892
112 | AUDI | AUDI A4/A5 | 26 | 38,497 | 0.6754
113 | MERCEDES-BENZ | SLK-CLASS | 1 | 1,505 | 0.6645
114 | NISSAN | 370Z | 7 | 10,913 | 0.6414
115 | GENERAL MOTORS | CADILLAC SRX | 31 | 48,740 | 0.6360
116 | TOYOTA | SCION XD | 10 | 15,884 | 0.6296
117 | CHRYSLER | JEEP PATRIOT | 25 | 40,670 | 0.6147
118 | HONDA | ACURA MDX | 21 | 34,613 | 0.6067
119 | AUDI | AUDI A6 | 4 | 6,777 | 0.5902
120 | SUZUKI | KIZASHI | 4 | 6,807 | 0.5876
121 | KIA | RONDO | 1 | 1,713 | 0.5838
122 | NISSAN | FRONTIER PICKUP | 26 | 44,888 | 0.5792
123 | FORD MOTOR CO | LINCOLN MKX | 12 | 21,164 | 0.5670
124 | FORD MOTOR CO | CROWN VICTORIA | 1 | 1,809 | 0.5528
125 | TOYOTA | VENZA | 27 | 49,445 | 0.5461
126 | VOLKSWAGEN | TIGUAN | 9 | 17,505 | 0.5141
127 | BMW | 1 | 3 | 5,890 | 0.5093
128 | HONDA | INSIGHT | 22 | 43,523 | 0.5055
129 | TOYOTA | LEXUS IS | 21 | 41,696 | 0.5036
130 | NISSAN | ROGUE | 44 | 89,165 | 0.4935
131 | TOYOTA | RAV4 | 89 | 180,634 | 0.4927
132 | HONDA | ELEMENT | 8 | 16,560 | 0.4831
133 | HONDA | ACURA TSX | 23 | 47,770 | 0.4815
134 | TOYOTA | AVALON | 7 | 14,551 | 0.4811
135 | HYUNDAI | TUCSON | 11 | 22,950 | 0.4793
136 | GENERAL MOTORS | CHEVROLET COLORADO PICKUP | 12 | 25,073 | 0.4786
137 | VOLVO | V50 | 1 | 2,148 | 0.4655
138 | FORD MOTOR CO | MERCURY MARINER | 14 | 30,142 | 0.4645
139 | SUBARU | LEGACY | 16 | 34,726 | 0.4607
140 | CHRYSLER | JEEP WRANGLER | 45 | 98,149 | 0.4585
141 | BMW | MINI COOPER | 18 | 40,706 | 0.4422
142 | VOLKSWAGEN | GOLF/RABBIT/GTI | 11 | 24,911 | 0.4416
143 | TOYOTA | LEXUS GS | 3 | 6,801 | 0.4411
144 | CHRYSLER | PT CRUISER | 5 | 11,358 | 0.4402
145 | MAZDA | MX-5 MIATA | 3 | 7,090 | 0.4231
146 | TOYOTA | LEXUS ES | 23 | 54,389 | 0.4229
147 | HONDA | ACURA 3.2 TL | 15 | 37,466 | 0.4004
148 | FORD MOTOR CO | RANGER PICKUP | 22 | 58,434 | 0.3765
149 | NISSAN | MURANO | 22 | 58,921 | 0.3734
150 | AUDI | AUDI Q5 | 7 | 18,853 | 0.3713
151 | SUBARU | OUTBACK | 25 | 71,253 | 0.3509
152 | VOLVO | S80 | 3 | 8,805 | 0.3407
153 | BMW | 5 | 12 | 35,988 | 0.3334
154 | SUBARU | FORESTER | 37 | 111,861 | 0.3308
155 | TOYOTA | LEXUS RX | 49 | 152,431 | 0.3215
156 | HONDA | CR-V | 64 | 200,327 | 0.3195
157 | TOYOTA | PRIUS | 78 | 250,553 | 0.3113
158 | VOLVO | XC90 | 3 | 9,846 | 0.3047
159 | VOLKSWAGEN | PASSAT | 4 | 13,204 | 0.3029
160 | GENERAL MOTORS | GMC TERRAIN | 13 | 48,605 | 0.2675
161 | SUZUKI | VITARA/GRAND VITARA | 2 | 7,498 | 0.2667
162 | HONDA | ODYSSEY VAN | 30 | 113,418 | 0.2645
163 | MITSUBISHI | OUTLANDER | 4 | 15,936 | 0.2510
164 | PORSCHE | 911 | 1 | 4,030 | 0.2481
165 | TOYOTA | LEXUS HS | 4 | 18,091 | 0.2211
166 | FORD MOTOR CO | TRANSIT CONNECT VAN | 8 | 36,886 | 0.2169
167 | HONDA | ACURA RDX | 3 | 14,117 | 0.2125
168 | NISSAN | INFINITI EX35 | 2 | 9,536 | 0.2097
169 | GENERAL MOTORS | CHEVROLET EQUINOX | 29 | 139,654 | 0.2077
170 | SAAB | 9-3 | 1 | 5,090 | 0.1965
171 | VOLVO | XC60 | 3 | 17,202 | 0.1744
172 | VOLKSWAGEN | EOS | 1 | 5,762 | 0.1736
173 | MAZDA | CX-7 | 7 | 40,443 | 0.1731
174 | HONDA | FIT | 12 | 69,465 | 0.1727
175 | BMW | X3 | 1 | 6,566 | 0.1523
176 | MAZDA | CX-9 | 1 | 15,464 | 0.0647
177 | ASTON MARTIN | DB9 | 0 | 68 | 0.0000
178 | ASTON MARTIN | DBS | 0 | 169 | 0.0000
179 | ASTON MARTIN | RAPIDE | 0 | 135 | 0.0000
180 | ASTON MARTIN | VANTAGE | 0 | 229 | 0.0000
181 | AUDI | AUDI A8 | 0 | 649 | 0.0000
182 | AUDI | AUDI R8 | 0 | 546 | 0.0000
183 | AUDI | AUDI S6 | 0 | 140 | 0.0000
184 | BENTLEY MOTORS | AZURE | 0 | 38 | 0.0000
185 | BENTLEY MOTORS | BROOKLANDS | 0 | 2 | 0.0000
186 | BMW | M3 | 0 | 1,869 | 0.0000
187 | BMW | M5 | 0 | 386 | 0.0000
188 | BMW | M6 | 0 | 523 | 0.0000
189 | BUGATTI | VEYRON | 0 | 8 | 0.0000
190 | CHRYSLER | DODGE VIPER | 0 | 384 | 0.0000
191 | FERRARI | 458 | 0 | 474 | 0.0000
192 | FERRARI | 599 | 0 | 153 | 0.0000
193 | FERRARI | 612 SCAGLIETTI | 0 | 26 | 0.0000
194 | FERRARI | CALIFORNIA | 0 | 1,127 | 0.0000
195 | GENERAL MOTORS | CADILLAC FUNERAL COACH/HEARSE | 0 | 529 | 0.0000
196 | GENERAL MOTORS | CADILLAC LIMOUSINE | 0 | 272 | 0.0000
197 | GENERAL MOTORS | PONTIAC G5 | 0 | 3 | 0.0000
198 | GENERAL MOTORS | SATURN AURA | 0 | 20 | 0.0000
199 | HYUNDAI | AZERA | 0 | 1,121 | 0.0000
200 | HYUNDAI | VERACRUZ | 0 | 8,344 | 0.0000
201 | JAGUAR LAND ROVER | LAND ROVER LR2 | 0 | 4,430 | 0.0000
202 | JAGUAR LAND ROVER | XJ | 0 | 68 | 0.0000
203 | LAMBORGHINI | GALLARDO | 0 | 190 | 0.0000
204 | LAMBORGHINI | MURCIELAGO | 0 | 59 | 0.0000
205 | LOTUS | ELISE | 0 | 354 | 0.0000
206 | MASERATI | QUATTROPORTE | 0 | 394 | 0.0000
207 | MAZDA | RX-8 | 0 | 1,217 | 0.0000
208 | MAZDA | TRIBUTE | 0 | 4,180 | 0.0000
209 | MERCEDES-BENZ | CLS-CLASS | 0 | 1,352 | 0.0000
210 | MERCEDES-BENZ | MAYBACH 57 | 0 | 1 | 0.0000
211 | MERCEDES-BENZ | SMART FORTWO | 0 | 3,255 | 0.0000
212 | MITSUBISHI | ECLIPSE | 0 | 793 | 0.0000
213 | NISSAN | INFINITI FX50 | 0 | 460 | 0.0000
214 | PORSCHE | BOXSTER | 0 | 1,421 | 0.0000
215 | PORSCHE | CAYMAN | 0 | 955 | 0.0000
216 | ROLLS ROYCE | GHOST | 0 | 604 | 0.0000
217 | ROLLS ROYCE | PHANTOM | 0 | 281 | 0.0000
218 | ROUSH PERFORMANCE | RPP MUSTANG | 0 | 766 | 0.0000
219 | SAAB | 9-5 | 0 | 644 | 0.0000
220 | SPYKER | C8 | 0 | 5 | 0.0000
221 | SUZUKI | EQUATOR PICKUP | 0 | 1,230 | 0.0000
222 | TESLA | ROADSTER | 0 | 278 | 0.0000
223 | VOLVO | C30 | 0 | 1,536 | 0.0000
224 | VOLVO | V70 | 0 | 1,496 | 0.0000
225 | VOLVO | XC70 | 0 | 6,379 | 0.0000

Issued on: September 14, 2012.
Christopher J. Bonanti,
Associate Administrator for Rulemaking.

[FR Doc. 2012-23308 Filed 9-20-12; 8:45 am]

BILLING CODE 4910-59-P